FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Global Port Ship Lines, Inc., 11067 60th Avenue, Prole, IA 50229. Officers: Timothy Stephen Mansfield, Secretary (Qualifying Individual) Timothy F. Pontier, President.

Amer-Asia Trading Corporation, 99-984 Iwaena Street, Aiea, HI 96701. Officers: Ove-Christensen, Asst. Secretary (Qualifying Individual) Thang Huy Pham, President.

NSM Logistics, Inc. dba Skyy Logistics, Inc., 163 Burlington Path Road, Suite H, Cream Ridge, NJ 08514. Officer: Sandeep Sharma, President (Qualifying Individual).

Oceanika Express, Inc., 8231 NW 68 Street, Miami, FL 33166. Officer: Luis Suarez, President (Qualifying Individual).

Marco Polo Logistics (Chi) Inc., 10929 Franklin Drive, Unit W, Franklin Park, IL 60131. Officers: Philip Lee, CFO (Qualifying Individual) James Ya-Hsiung Wu, President.

Non-Vessel—Operating Common Carrier and Ocean Freight Forwarder Transportation Intermediary Applicants:

R.T.I. Shipping Inc., 191-03 Jamiaca Aveune, Hollis, NY 11423. Officers: Romain Singh, Owner (Qualifying Individual) Tyrone Singh, Owner.

Anchor Global (USA), Inc., 11133 Oakton Road, Oackton, VA 22124. Officers: Ellen Haiyan Sun, Vice President (Qualifying Individual) Hao Peng, President.

General Logistics Solutions, Corp., 3520 NW 115th Avenue, Miami, FL 33178. Officer: Alejandro Orsini, President (Qualifying Individual).

Servicios Hondurenos, 6601 Hillcroft, Suite 207, Houston, TX 77081, Francis Mendez Alvarez, Sole Proprietor.

Ocean Freight Forwarder—Ocean Transportation Intermediary Applicants:

ACD Cargo, Inc., 7100 N.W. 36th Avenue, Miami, FL 33147. Officer: Maria (a/k/a Mercy Flores, President (Qualifying Individual) Jair Alberto Pitty, Partner.

Oceanpac Transport, Inc., 1428 Brett Place, Unit 81, San Pedro, CA 90732. Officers: Nobuyuki Kase, President (Qualifying Individual) Fumiko Kase, CFO.

Dated: September 23, 2005.
Karen V. Gregory,
Assistant Secretary.

[FR Doc. 05-19365 Filed 9-27-05; 8:45 am]

BILLING CODE 6730-01-P